DEPARTMENT OF COMMERCE

National Oceanic and Atmospheric Administration

Evaluation of State Coastal Management Program

AGENCY: Office for Coastal Management, National Ocean Service, National Oceanic and Atmospheric Administration (NOAA), Commerce.

ACTION: Notice of intent to evaluate: Correction.

SUMMARY: The NOAA Office for Coastal Management published a notice in the Federal Register on July 16, 2015, announcing its intent to evaluate the Puerto Rico Coastal Management Program. This document contains corrections to that notice, regarding the start time of the public meeting and the date for which written comments will be accepted.

DATES: The second public meeting for the Puerto Rico Coastal Management Program will be held Wednesday, September 2, and begin at 4:00 p.m. local time at the Environmental Agencies Building, PR-8838 Km. 6.3, El Cinco, Rio Piedras, San Juan, Puerto Rico.

ADDRESSES: Written comments from interested parties are encouraged and will be accepted until September 15, 2015. Please direct written comments to Carrie Hall, Evaluator, Planning and Performance Measurement Program, NOAA Office for Coastal Management, 1305 East-West Highway, 11th Floor, N/OCM1, Room 11212, Silver Spring, Maryland 20910, or Carrie.Hall@noaa.gov. All other portions of the 16 July notice remain unchanged.

FOR FURTHER INFORMATION CONTACT: Carrie Hall, Evaluator, Planning and Performance Measurement Program, NOAA Office for Coastal Management, NOS/NOAA, 1305 East-West Highway, 11th Floor, N/OCM1, Room 11212, Silver Spring, Maryland 20910, or Carrie.Hall@noaa.gov.

(Federal Domestic Assistance Catalog 11.419 Coastal Zone Management Program Administration)

Dated: August 4, 2015.
Donna Rivelli,
Deputy Associate Assistant Administrator for Management and CFO/CAO, Ocean Services and Coastal Zone Management, National Oceanic and Atmospheric Administration.

[FR Doc. 2015-19664 Filed 8-10-15; 8:45 am]

BILLING CODE 3510-08P